DEPARTMENT OF EDUCATION

National Assessment Governing Board; Meeting

AGENCY: U.S. Department of Education, National Assessment Governing Board.

ACTION: Notice of Open and Closed Meeting Sessions.

SUMMARY: This notice sets forth the schedule and proposed agenda for the upcoming meeting of the National Assessment Governing Board (Board) and also describes the specific functions of the Board. Notice of this meeting is required under Section 10 (a) (2) of the Federal Advisory Committee Act. This notice is issued to provide members of the general public with an opportunity to attend and/or provide comments. Individuals who will need special accommodations in order to attend the meeting (e.g., interpreting services, assistive listening devices, materials in alternative format) should notify Munira Mwalimu at 202-357-6938 or at Munira.Mwalimu@ed.gov no later than July 27, 2012. We will attempt to meet requests after this date but cannot guarantee availability of the requested accommodation. The meeting site is accessible to individuals with disabilities.

DATES: August 2-4, 2012.

Times:

August 2

Committee Meetings

Assessment Development Committee (ADC): Closed Session: 9:00 a.m.-3:30 p.m.; Open Session: 3:30 p.m.-4:00 p.m.

Executive Committee: Open Session: 4:30 p.m.-5:30 p.m.; Closed Session: 5:30 p.m.-6:00 p.m.

August 3

Full Board: Open Session: 8:30 a.m.-9:45 a.m.; Closed Session: 12:45 p.m.-1:45 p.m.; Open Session: 2:00 p.m.-4:00 p.m.

Committee Meetings

Assessment Development Committee (ADC): Open Session: 10:00 a.m.-11:00 a.m.; Closed Session: 11:00 a.m.-12:30 p.m.

Reporting and Dissemination Committee (R&D): Open Session: 10:00 a.m.-12:30 p.m.

Committee on Standards, Design and Methodology (COSDAM): Open Session: 10:00 a.m. -11:30 a.m.; Closed Session: 11:30 a.m.-12:30 p.m.

August 4

Nominations Committee: Closed Session: 7:30 a.m.-8:15 a.m.

Full Board: Open Session: 8:30 a.m.-12:00 p.m.

Location: St. Regis Hotel, 923 16th and K Streets NW., Washington DC 20006.

FOR FURTHER INFORMATION CONTACT: Munira Mwalimu, Executive Officer, National Assessment Governing Board, 800 North Capitol Street NW., Suite 825, Washington, DC, 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

The Governing Board`s standing committees, the Assessment Development Committee and the Executive Committee, will convene on August 2, 2012. From 9:00 a.m. to 3:30 p.m., the Assessment Development Committee (ADC) will meet in closed session to review secure computer-based tasks and test materials for the NAEP 2014 Technology and Engineering Literacy Assessment at grade 8. During the closed session, ADC members will be provided specific test materials for review which are not yet available for release to the general public. Premature disclosure of these secure test items and materials would compromise the integrity and substantially impede implementation of the NAEP assessments and is therefore protected by exemption 9(B) of section 552b(c) of Title 5 of the United States Code. Following this closed session, the Committee will meet in open session from 3:30 p.m. to 4:00 p.m. to discuss NAEP Preparedness Reporting.

The Executive Committee will meet on August 2, 2012 from 4:30 p.m. to 5:30 p.m. in open session and thereafter in closed session from 5:30 p.m. to 6:00 p.m. At 4:45 p.m. the Executive Committee will discuss the election of the Board Vice Chair for a term beginning October 1, 2012. During the closed session, the Executive Committee will receive and discuss the current procurement plans and independent government cost estimates from the National Center for Education Statistics (NCES) staff for proposed item development, data collection, scoring and analysis, and reporting of National Assessment of Educational Progress (NAEP) results for 2013-2017, and their implications on future NAEP activities. The discussion of independent government cost estimates for the NAEP 2013-2017 contracts is necessary for ensuring that NAEP contracts meet congressionally mandated goals and adhere to Board policies on NAEP Assessments available at www.nagb.org/policies.html. This part of the meeting must be conducted in closed session because public disclosure of this information would likely have an adverse financial effect on the NAEP program and would provide an advantage to potential bidders attending an open meeting. Discussion of this information would be likely to significantly impede implementation of a proposed agency action if conducted in open session. Such matters are protected by exemption 9(B) of section 552b(c) of Title 5 U.S.C.

On August 3, 2012, the full Board will meet in open session from 8:30 a.m. to 9:45 a.m., followed by a closed session from 12:45 p.m. to 1:45 p.m. and thereafter in open session from 2:00 p.m. to 4:00 p.m.

From 8:30 a.m. to 8:45 a.m. on August 3, the Board will review and approve the August 2012 meeting agenda and meeting minutes from the May 2012 Board meeting, followed by the Chairman's remarks. From 8:45 a.m. to 9:15 a.m. the Board will receive a briefing on the Department of Defense Education Activity (DoDEA) and NAEP. From 9:15 a.m. to 9:45 a.m., the Executive Director of the Governing Board will provide a report to the Board, followed by updates from the Commissioner of the National Center for Education Statistics (NCES) and the Director of the Institute of Education Sciences (IES). Following these sessions, the Board will recess for Committee meetings from 10:00 a.m. to 12:30 p.m.

The Reporting and Dissemination Committee will meet in open session from 10:00 a.m. to 12:30 p.m. The Assessment Development Committee (ADC) will meet in open session from 10:00 a.m. to 11:00 a.m. and thereafter in closed sessions from 11:00 a.m. to 12:30 p.m. During the first closed session, the ADC will receive secure results from two NAEP studies: the NAEP Mathematics Knowledge and Skills Appropriate Study (KaSA) at grade 8 and results from the 2011 NAEP Grade 4 Computer-Based Writing Pilot. The briefing and discussions on these two special studies must be conducted in closed session because the ADC members will be provided with results which are under an NCES embargo and not yet available for release to the general public. Premature disclosure of these secure test items and materials would compromise the integrity and substantially impede implementation of the NAEP assessments and is therefore protected by exemption 9(B) of section 552b(c) of Title 5 of the United States Code.

The Committee on Standards, Design and Methodology (COSDAM) will meet in open session from 10:00 a.m. to 11:30 a.m. and thereafter in closed session from 11:30 a.m. to 12:30 p.m. During the closed session, the Committee will receive two briefings: First, the results of a multi-stage adaptive assessment will be presented to brief the Committee on analyses of response time indicators of student engagement. The session will need to be closed in order to present information about differential response times associated with specific items included in the secure NAEP assessment. The Committee will be provided with secure results that have not been approved for release and therefore cannot be disclosed to the general public at this time. Premature disclosure of these secure data would significantly impede implementation of the NAEP assessments and reporting, and is therefore protected by exemption 9(B) of section 552b(c) of Title 5 U.S.C.

During the second part of the closed session, NCES staff will provide a briefing on the procurement plans for conducting an evaluation of the NAEP achievement levels. COSDAM oversees the development of NAEP achievement levels. Members will discuss the subjects and grades to be included in the evaluation. This part of the meeting must be conducted in closed session because the solicitation has not been released. Public disclosure of this information would likely have an adverse financial effect on the NAEP program and would provide an advantage to potential bidders attending an open meeting. Discussion of this information would be likely to significantly impede implementation of a proposed agency action if conducted in open session. Such matters are protected by exemption 9(B) of section 552b(c) of Title 5 U.S.C.

On August 3, 2012 from 12:45 p.m. to 1:45 p.m. the full Board will meet in closed session to receive and discuss results of the NAEP 2011 Writing Report Card at grades 8 and 12. The briefing will include secure items and embargoed assessment data and results that cannot be discussed in an open meeting prior to their official release. Premature disclosure of these results would significantly impede implementation of the NAEP assessment program, and is therefore protected by exemption 9(B) of section 552b(c) of Title 5 United States Code.

After the closed session, the Board will meet in the following open sessions: From 2:00 p.m. to 3:15 p.m., the Board will receive a briefing on the Common Core State Standards and Assessments from the PARCC Assessment Consortium and the Smarter Balanced Assessment Consortium. From 3:15 p.m. to 4:00 p.m., the Board will receive a briefing on the Race to the Top Implementation and NAEP. The August 3, 2012 session of the Board meeting is scheduled to adjourn at 4:00 p.m.

On August 4, 2012, the Nominations Committee will meet in closed session from 7:15 a.m. to 8:15 a.m. to discuss potential candidates for Board terms beginning October 1, 2013. The Committee discussions pertain solely to internal personnel rules and practices of an agency and information of a personal nature where disclosure would constitute an unwarranted invasion of personal privacy. As such, the discussions are protected by exemptions 2 and 6 of section 552b(c) of Title 5 of the United States Code.

On August 4, from 8:30 a.m. to 10:30 a.m. the full Board will meet in open session to discuss its ongoing work on Making a Difference, Reporting NAEP 12th Grade Academic Preparedness Research, Parent Engagement, and NAEP and Common Core State Standards and Assessments. The Board will also discuss plans for the Board's 25th Anniversary. From 10:45 a.m. to 12:00 p.m. the Board will receive Committee reports and take action on Committee recommendations. The August 4, 2012 meeting is scheduled to adjourn at 12:00 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

Dated: July 17, 2012.
Mary Crovo,
Deputy Executive Director, National Assessment Governing Board (NAGB), U.S. Department of Education.

[FR Doc. 2012-17802 Filed 7-20-12; 8:45 am]

BILLING CODE 4000-01-P